FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 4, 2003.

A. Federal Reserve Bank of Boston (Richard Walker, Community Affairs Officer) 600 Atlantic Avenue, Boston, Massachusetts 02106-2204:

1. Kenneth R. Lehman and Joan Abercrombie Lehman, Medway, Massachusetts; to acquire voting shares of Service Bancorp, Inc., Medway, Massachusetts, and thereby indirectly acquire voting shares of Strata Bank, Medway, Massachusetts.

B. Federal Reserve Bank of Chicago (Phillip Jackson, Applications Officer) 230 South LaSalle Street, Chicago, Illinois 60690-1414:

1. Randall E. Vail, Lake Mills, Wisconsin; to acquire additional voting shares of The Greenwood's Bancorporation, Inc. Lake Mills, Wisconsin, and thereby indirectly acquire additional voting shares of The Greenwood's State Bank, Lake Mills, Wisconsin.

2. Raymond Abel, Mediapolis, Iowa; to retain control of Mediapolis Bancorporation, Mediapolis, Iowa, and thereby indirectly retain voting shares of Mediapolis Savings Bank, Mediapolis, Iowa.

3. Kenneth and Shirley Aspelmeier, Mediapolis, Iowa, together and with Lynne McBridge of Waterloo, Iowa, David Aspelmeier, Case Aspelmeier, and Samuel Aspelmeier, all of West Branch, Iowa, also known as the Aspelmeier Family; to retain control of Mediapolis Bancorporation, Mediapolis, Iowa, and thereby indirectly acquire Mediapolis Savings Bank.

4. Donald and Carol Schmidgall, Hartzell and Marian Schmidgall, Jon and Julie Schmidgall, Ronald and Jane Schmidgall, Mediapolis, Iowa, also known as the Schmidgall Family; to retain control of Mediapolis Bancorporation, Mediapolis, Iowa, and thereby indirectly acquire Mediapolis Savings Bank, Mediapolis, Iowa.

Board of Governors of the Federal Reserve System, November 14, 2003.
Robert deV. Frierson,
Deputy Secretary of the Board.

[FR Doc. 03-28940 Filed 11-19-03; 8:45 am]

BILLING CODE 6210-01-S